DEPARTMENT OF ENERGY

Federal Energy Regulatory Commission

[Project No. 13131-000]

Loomis Creek Hydro, LLC; Notice of Preliminary Permit Application Accepted for Filing and Soliciting Comments, Motions To Intervene, and Competing Applications

July 21, 2008.

On February 25, 2008, Loomis Creek Hydro, LLC filed an application, pursuant to section 4(f) of the Federal Power Act, proposing to study the feasibility of the Loomis Creek Pump Storage Hydroelectric Project, located on the Loomis Creek, in Elko County, Nevada.

The proposed pumped storage project would consist of: (1) A lower gravity dam 160 feet in height, with a crest length of 4,800 feet, and a hydraulic head of 140 feet, and an upper gravity dam 200 feet in height, with a crest length of 1,250 feet and a hydraulic head of 180 feet, (2) a proposed upper reservoir having a surface area of 100 acres, with a storage capacity of 5,800 acre-feet and a normal water surface elevation of 7,100 feet mean sea level (msl), (3) a proposed lower reservoir having a surface area of 180 acres, with storage capacity of 7,800 acre-feet and normal water surface elevation of 6,460 feet msl, (4) a 264-inch-diameter steel penstock approximately 11,100 feet long, (5) a proposed powerhouse containing five generating units having a total installed capacity of 370 megawatts, (6) a switchyard, (7) a 115 kV transmission line approximately 9.7 miles in length, and (8) appurtenant facilities. The proposed project would generate approximately 1,093 gigawatt hours annually, which would be sold to a local utility.

Applicant Contact: Mr. Daniel Dygert, COO, Carrus Land Systems, LLC, 1047 S. 100 W., Ste. 210, Logan, UT 84321, (435) 787-2211, and Mr. Brent Smith, COO, Symbiotics, LLC, P.O. Box 535, Rigby, ID 83442, (208) 745-0834.

FERC Contact: Kelly Houff, 202-502-6393.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of Commission's Web site at http://www.ferc.gov/docs-filing/elibrary.asp. Enter the docket number (P-13131) in the docket number field to access the document. For assistance, call toll-free 1-866-208-3372.

Kimberly D. Bose,
Secretary.

[FR Doc. E8-17146 Filed 7-25-08; 8:45 am]

BILLING CODE 6717-01-P